NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on July 10-12, 2002, in Conference Room T-2B3, 11545 Rockville Pike, Rockville, Maryland. The date of this meeting was previously published in the Federal Register on Monday, November 26, 2001 (66 FR 59034).

Wednesday, July 10, 2002

8:30 a.m.-8:35 a.m.: Opening Remarks by the ACRS Chairman (Open)—The ACRS Chairman will make opening remarks regarding the conduct of the meeting.

8:35 a.m.-10 a.m.: Pressurized Thermal Shock (PTS) Reevaluation Project: Risk Acceptance Criteria (Open)—The Committee will hear presentations by and hold discussions with representatives of the NRC staff regarding the risk metrics and associated criteria that can be used in reevaluating the technical basis of the PTS rule.

10:15 a.m.-11:15 a.m.: Draft Final Revision 1 to Regulatory Guide 1.174, “An Approach to Using Probabilistic Risk Assessment in Risk-Informed Decisions on Plant-Specific Changes to the Licensing Basis,” and Associated Standard Review Plan Chapter 19 (Open)—The Committee will hear presentations by and hold discussions with representatives of the NRC staff regarding the draft final revision 1 to Regulatory Guide 1.174 and the associated Standard Review Plan Chapter 19, “Use of Probabilistic Risk Assessment in Plant-Specific, Risk-Informed Decisionmaking: General Guidance.”

11:15 a.m.-12:45 p.m.: Discussion of Topics for Meeting with the NRC Commissioners (Open)—The Committee will discuss topics for meeting with the NRC Commissioners on July 10, 2002.

2 p.m.-4 p.m.: Meeting with the NRC Commissioners (Open)—The Committee will meet with the NRC Commissioners, Commissioners' Conference Room, One White Flint North, to discuss the following:

• Overview

—Core Power Uprates and License Renewals

—Future Committee Activities

• Advanced Reactors

• Risk-Informing Special Treatment Requirements of 10 CFR Part 50

• Pressurized Thermal Shock Technical Basis Reevaluation Project

4:15 p.m.-5:15 p.m.: Risk-Informed Regulation Implementation Plan (Open)—The Committee will hear presentations by and hold discussions with representatives of the NRC staff regarding the updated version of the Risk-Informed Regulation Implementation Plan.

5:30 p.m.-7:15 p.m.: Proposed ACRS Reports (Open)—The Committee will discuss proposed ACRS reports on matters considered during this meeting.

Thursday, July 11, 2002

8:30 a.m.-8:35 a.m.: Opening Remarks by the ACRS Chairman (Open)—The ACRS Chairman will make opening remarks regarding the conduct of the meeting.

8:35 a.m.-10 a.m.: Advanced Reactors Research Plan (Open)—The Committee will hear presentations by and hold discussions with representatives of the NRC staff regarding the modifications and updates to the Advanced Reactors Research Plan.

10:15 a.m.-12 Noon: Overview of NRC Research Activities in the Seismic Area (Open)—The Committee will hear presentations by and hold discussions with representatives of the NRC staff regarding ongoing and proposed research activities as well as new research needs in the seismic area.

1 p.m.-2:30 p.m.: Development of Review Standard for Reviewing Core Power Uprate Applications (Open)—The Committee will hear presentations by and hold discussions with representatives of the NRC staff regarding the development of a “Review Standard” for use in future reviews of Core Power uprate applications.

2:45 p.m.-6 p.m.: Proposed ACRS Reports (Open)—The Committee will discuss proposed ACRS reports.

Friday, July 12, 2002

8:30 a.m.-8:35 a.m.: Opening Remarks by the ACRS Chairman (Open)—The ACRS Chairman will make opening remarks regarding the conduct of the meeting.

8:35 a.m.-10:15 a.m.: Application of the Probabilistic Fracture Mechanics Methodologies to Reactor Vessel Integrity Assessment (Open)—The Committee will hear presentations by and hold discussions with representatives of the NRC staff regarding application of the probabilistic fracture mechanics methodologies (including the FAVOR computer code) to assess reactor pressure vessel integrity.

10:30 a.m.-2:30 p.m.: Proposed ACRS Reports (Open)—The Committee will discuss proposed ACRS reports.

2:45 p.m.-3:30 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

3:30 p.m.-3:45 p.m.: Reconciliation of ACRS Comments and Recommendations (Open)—The Committee will discuss the responses from the NRC Executive Director for Operations (EDO) to comments and recommendations included in recent ACRS reports and letters. The EDO responses are expected to be made available to the Committee prior to the meeting.

3:45 p.m.-4:45 p.m.: Format and Content of the 2003 ACRS Report on the NRC Safety Research Program (Open)—The Committee will discuss the format, content, schedule, and assignments for the 2003 ACRS report to the Commission on the NRC Safety Research Program.

5 p.m.-6 p.m.: Proposed Papers for the Quadripartite Meeting (Open)—The Committee will discuss proposed technical papers on specific topics that will be presented at the Quadripartite meeting scheduled to be held on October 23-25, 2002, in Berlin, Germany.

6 p.m.-6:30 p.m.: Miscellaneous (Open)—The Committee will discuss matters related to the conduct of Committee activities and matters and specific issues that were not completed during previous meetings, as time and availability of information permit.

Procedures for the conduct of and participation in ACRS meetings were published in the Federal Register on October 3, 2001 (66 FR 50462). In accordance with those procedures, oral or written views may be presented by members of the public, including representatives of the nuclear industry. Electronic recordings will be permitted only during the open portions of the meeting and questions may be asked only by members of the Committee, its consultants, and staff. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

Further information regarding topics to be discussed, whether the meeting has been canceled or rescheduled, the Chairman's ruling on requests for the opportunity to present oral statements, and the time allotted therefor can be obtained by contacting Dr. Sher Bahadur, Associate Director for Technical Support, (telephone 301-415-0138), between 7:30 a.m. and 4:15 p.m., EDT.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/NRC/ADAMS/index.html.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment and facilities that they use to establish the videoteleconferencing link. The availability of videoteleconferencing services is not guaranteed.

Dated: June 18, 2002.
Andrew L. Bates,
Advisory Committee Management Officer.

[FR Doc. 02-15859 Filed 6-21-02; 8:45 am]

BILLING CODE 7590-01-P